COMMITTEE FOR PURCHASE FROM PEOPLE WHO ARE BLIND OR SEVERELY DISABLED

Procurement List; Proposed Addition and Deletions

AGENCY: Committee for Purchase From People Who Are Blind or Severely Disabled.

ACTION: Proposed Additions to and Deletions from the Procurement List.

SUMMARY: The Committee is proposing to add products and a service to the Procurement List that will be furnished by nonprofit agencies employing persons who are blind or have other severe disabilities, and deletes products previously furnished by such agencies.

DATES: Comments must be received on or before: April 15, 2018.

ADDRESSES: Committee for Purchase from People Who Are Blind or Severely Disabled, 1401 S. Clark Street, Suite 715, Arlington, Virginia 22202-4149.

FOR FURTHER INFORMATION CONTACT: For further information or to submit comments contact: Amy B. Jensen, Telephone: (703) 603-7740, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

If the Committee approves the proposed additions, the entities of the Federal Government identified in this notice will be required to procure the products and service listed below from nonprofit agencies employing persons who are blind or have other severe disabilities.

The following products and service are proposed for addition to the Procurement List for production by the nonprofit agencies listed:

Products

NSN(s)—Product Name(s): MR 3200—3599—Perimeter Merchandising Program, Hair Care Products, MR Series 3200—3599

MR 11300—Water Bottle, Travel, Addison, 24 oz.

MR 11305—Water Bottle, Travel, Cortland, 24 oz.

MR 11308—Tumbler, Travel, Shake and Go, 20 oz.

MR 11312—Mug, Travel, Stainless Steel, West Loop 2.0, 20 oz.

MR 11314—Mug, Travel, Stainless Steel, West Loop 2.0, 16 oz.

MR 11319—Mug, Travel, Stainless Steel, Classic, 20 oz.

Mandatory for: The requirements of military commissaries and exchanges in accordance with the Code of Federal Regulations 41 CFR 51-6.4.

Mandatory Source of Supply: Association for Vision Rehabilitation and Employment, Inc., Binghamton, NY

Contracting Activity: Defense Commissary Agency

Service

Service Type: Warehouse Support Service

Mandatory for: NAVSUP Fleet Logistics Center Norfolk, NDW, Supply Management Division, NAVSUP Warehouse, Building 234, 234 Halligan Rd., Annapolis, MD

Mandatory Source of Supply: Richmond Area Association for Retarded Citizens, Richmond, VA

Contracting Activity: Dept of the Navy, NAVSUP FLT LOG CTR NORFOLK

Deletions

The following products are proposed for deletion from the Procurement List:

Products

NSN(s)—Product Name(s): 5340-01-365-1043—Strap, Mail Tray

Mandatory Source of Supply: Work, Incorporated, Dorchester, MA

Contracting Activity: U.S. Postal Service, Eagan, Eagan, MN

NSN(s)—Product Name(s):

8415-01-476-6346—Shirt, Underwear, Lightweight, SPEAR, Army, Black, LL

8415-01-476-6350—Shirt, Underwear, Lightweight, SPEAR, Army, Black, MR

8415-01-476-6359—Shirt, Underwear, Lightweight, SPEAR, Army, Green, MR

8415-01-476-6555—Shirt, Underwear, Lightweight, SPEAR, Army, Black, SR

8415-01-476-6556—Shirt, Underwear, Lightweight, SPEAR, Army, Black, XLL

8415-01-476-6557—Shirt, Underwear, Lightweight, SPEAR, Army, Black, XLR

Mandatory Source of Supply: Peckham Vocational Industries, Inc., Lansing, MI

Contracting Activity: Army Contracting Command—Aberdeen Proving Ground, Natick Contracting Division

Amy B. Jensen,
Director, Business Operations.

[FR Doc. 2018-05378 Filed 3-15-18; 8:45 am]

BILLING CODE 6353-01-P